DEPARTMENT OF STATE

[Public Notice 7492]

30-Day Notice of Proposed Information Collections: ECA Sports & Culture Evaluation Surveys

ACTION: Notice of request for public comment and submission to OMB of proposed collections of information.

SUMMARY: The Department of State has submitted the following information collection requests to the Office of Management and Budget (OMB) for approval in accordance with the Paperwork Reduction Act of 1995.

• Title of Information Collection: Sports & Culture Evaluation, Between the Lines (BTL) Survey.

• OMB Control Number: None.

• Type of Request: New Collection.

• Originating Office: Bureau of Educational and Cultural Affairs, Office of Policy and Evaluation, Evaluation Division (ECA/P/V).

• Form Number: Survey numbers generated as needed.

• Respondents: ECA's Between the Lines (BTL) Program exchange participants from 2008 through 2009.

• Estimated Number of Respondents: 31 annually.

• Estimated Number of Responses: 31 annually.

• Average Hours per Response: 35 minutes.

• Total Estimated Burden: 18 hours annually.

• Frequency: On Occasion.

• Obligation to Respond: Voluntary.

• Title of Information Collection: Sports & Culture Evaluation, Sports Envoys Survey.

• OMB Control Number: None.

• Type of Request: New Collection.

• Originating Office: Bureau of Educational and Cultural Affairs, Office of Policy and Evaluation, Evaluation Division (ECA/P/V).

• Form Number: Survey numbers generated as needed.

• Respondents: ECA's Sports Envoys Program envoy participants from 2005 through 2009.

• Estimated Number of Respondents: 28 annually.

• Estimated Number of Responses: 28 annually.

• Average Hours per Response: 20 minutes.

• Total Estimated Burden: 9 hours annually.

• Frequency: On Occasion.

• Obligation to Respond: Voluntary.

• Title of Information Collection: Sports & Culture Evaluation, Kennedy Center (KC) Mentor Survey.

• OMB Control Number: None.

• Type of Request: New Collection.

• Originating Office: Bureau of Educational and Cultural Affairs, Office of Policy and Evaluation, Evaluation Division (ECA/P/V).

• Form Number: Survey numbers generated as needed.

• Respondents: ECA's Kennedy Center (KC) Cultural Fellows Mentoring Program participants from 2005 through 2009.

• Estimated Number of Respondents: 30 annually.

• Estimated Number of Responses: 30 annually.

• Average Hours per Response: 35 minutes.

• Total Estimated Burden: 18 hours annually.

• Frequency: On Occasion.

• Obligation to Respond: Voluntary.

• Title of Information Collection: Sports & Culture Evaluation, Sports Surveys.

• OMB Control Number: None.

• Type of Request: New Collection.

• Originating Office: Bureau of Educational and Cultural Affairs, Office of Policy and Evaluation, Evaluation Division (ECA/P/V).

• Form Number: Survey numbers generated as needed.

• Respondents: ECA's Sports Visitors Program and the International Sports Grants Initiative participants from 2008 through 2009.

• Estimated Number of Respondents: 247 annually (Sports Grants: 140, Sports Visitors: 107).

• Estimated Number of Responses: 247 annually (Sports Grants: 140, Sports Visitors: 107).

• Average Hours per Response: 35 minutes (Sports Grants: 35, Sports Visitors: 35).

• Total Estimated Burden: 144 hours annually (Sports Grants: 82, Sports Visitors: 62).

• Frequency: On Occasion.

• Obligation to Respond: Voluntary.

• Title of Information Collection: Sports & Culture Evaluation, Kennedy Center (KC) Cultural Visitors Survey.

• OMB Control Number: None.

• Type of Request: New Collection.

• Originating Office: Bureau of Educational and Cultural Affairs, Office of Policy and Evaluation, Evaluation Division (ECA/P/V).

• Form Number: Survey numbers generated as needed.

• Respondents: ECA's Kennedy Center (KC) Cultural Visitors Program participants from 2005 through 2009.

• Estimated Number of Respondents: 103 annually.

• Estimated Number of Responses: 103 annually.

• Average Hours per Response: 35 minutes.

• Total Estimated Burden: 60 hours annually.

• Frequency: On Occasion.

• Obligation to Respond: Voluntary.

• Title of Information Collection: Sports & Culture Evaluation, International Visitor Leadership Program (IVLP) Survey.

• OMB Control Number: None.

• Type of Request: New Collection.

• Originating Office: Bureau of Educational and Cultural Affairs, Office of Policy and Evaluation, Evaluation Division (ECA/P/V).

• Form Number: Survey numbers generated as needed.

• Respondents: ECA's International Visitor Leadership Program (IVLP) participants who were involved in selected cultural programs from 2000 through 2009.

• Estimated Number of Respondents: 855 annually.

• Estimated Number of Responses: 855 annually.

• Average Hours per Response: 35 minutes.

• Total Estimated Burden: 499 hours annually.

• Frequency: On Occasion.

• Obligation to Respond: Voluntary.

• Title of Information Collection: Sports & Culture Evaluation, International Writing Program (IWP) Survey.

• OMB Control Number: None.

• Type of Request: New Collection.

• Originating Office: Bureau of Educational and Cultural Affairs, Office of Policy and Evaluation, Evaluation Division (ECA/P/V).

• Form Number: Survey numbers generated as needed.

• Respondents: ECA's International Writing Program (IWP), Fall Residency exchange program participants from 2005 through 2009.

• Estimated Number of Respondents: 112 annually.

• Estimated Number of Responses: 112 annually.

• Average Hours per Response: 35 minutes.

• Total Estimated Burden: 65 hours annually.

• Frequency: On Occasion.

• Obligation to Respond: Voluntary.

DATES: Submit comments to the Office of Management and Budget (OMB) for up to 30 days from June 8, 2011

ADDRESSES: Direct comments to the Department of State Desk Officer in the Office of Information and Regulatory Affairs at the Office of Management and Budget (OMB). You may submit comments by the following methods:

• E-mail: oira_submission@omb.eop.gov. You must include the DS form number, information collection title, and OMB control number in the subject line of your message.

• Fax: 202-395-5806. Attention: Desk Officer for Department of State.

FOR FURTHER INFORMATION CONTACT: You may obtain copies of the proposed information collection and supporting documents from Michelle Hale, ECA/P/V, SA-5, C2 Floor, Department of State, Washington, DC 20522-0582, who may be reached on 202-632-6312 or at HaleMJ2@state.gov.

SUPPLEMENTARY INFORMATION: We are soliciting public comments to permit the Department to:

• Evaluate whether the proposed information collection is necessary to properly perform our functions.

• Evaluate the accuracy of our estimate of the burden of the proposed collection, including the validity of the methodology and assumptions used.

• Enhance the quality, utility, and clarity of the information to be collected.

• Minimize the reporting burden on those who are to respond,

Abstract of proposed collections: The Department of State is requesting new information collections to meet OMB and Congressional reporting requirements. These requests for new information collections will allow ECA/P/V, as part of their Sports and Culture Evaluation Program, to conduct surveys of exchange participants from various ECA programs. Collecting this data will help ECA/P/V assess and measure the effectiveness and impact of their programs, and provide valuable feedback from the participants' perspective.

• Sports & Culture Evaluation, Between the Lines (BTL) Survey: Respondents will be exchange participants who were involved in the BTL Program during 2008 and 2009.

• Sports & Culture Evaluation, Sports Envoys Survey: Respondents will be envoys who participated in the Sports Envoys Program between 2005 and 2009.

• Sports & Culture Evaluation, Kennedy Center (KC) Mentor Survey: Respondents will be exchange program participants who were involved in the KC Cultural Fellows Mentoring Program between 2005 and 2009.

• Sports & Culture Evaluation, Sports Surveys: Respondents will be exchange program participants who were involved in either the Sports Visitors Program or the International Sports Grants Initiative Program during 2008 and 2009.

• Sports & Culture Evaluation, Kennedy Center (KC) Cultural Visitors Survey: Respondents will be exchange program participants who were involved in the KC Cultural Visitors Program between 2005 and 2009.

• Sports & Culture Evaluation, International Visitor Leadership Program (IVLP) Survey: Respondents will be exchange program participants who were involved in IVLP programs that focused on cultural themes between 2000 and 2009.

• Sports & Culture Evaluation, International Writing Program (IWP) Survey: Respondents will be exchange program participants who were involved in the IWP programs between 2005 and 2009.

Methodology: All evaluation data will be collected through eight (8) electronic surveys conducted via Zoomerang, an on-line surveying tool.

Additional Information: These seven (7) information collections together represent the entire Sports and Culture Evaluation which will survey participants of eight (8) different ECA exchange programs that focus on either arts and culture, or sports related themes.

Dated: May 27, 2011.
Julianne Paunescu,
Acting Director of the Office of Policy and Evaluation, Bureau of Educational and Cultural Affairs, Department of State.

[FR Doc. 2011-14167 Filed 6-7-11; 8:45 am]

BILLING CODE 4710-05-P